DEPARTMENT OF STATE

[Public Notice 9880]

Notice of Availability of the Draft Supplemental Environmental Impact Statement (SEIS) for the Proposed Enbridge Energy, Limited Partnership Line 67 Expansion Project and Announcement of a Public Meeting

AGENCY: Department of State.

ACTION: Notice; solicitation of comments.

SUMMARY: The U.S. Department of State (Department) announces availability for the public review and comment of the Draft Supplemental Environmental Impact Statement for the Line 67 Expansion (Draft SEIS). This document analyzes the potential environmental effects of issuing a Presidential Permit authorizing an increase in flow of liquid hydrocarbons through the Line 67 pipeline border segment. The Draft SEIS was prepared consistent with the National Environmental Policy Act (NEPA) of 1969 (42 United States Code [U.S.C.] Section 4321, et seq.), the regulations of the Council on Environmental Quality (CEQ) (40 Code of Federal Regulations [CFR] 1500-1508), and the Department's NEPA implementing regulations (22 CFR part 161).

DATES: The Department invites U.S. agencies, organizations, tribal governments, and members of the public to submit comments to assist the Department in identifying environmental and other relevant issues, any measures that might be adopted to reduce the proposed Project's environmental impacts, and other information relevant to the Draft SEIS. The 45-day public comment period begins with the publication of this Notice on February 10, 2017 and ends on March 27, 2017. Comments submitted electronically through www.regulations.gov as described below are strongly encouraged, but all comments will be given equal weight. The Department will consider comments received or postmarked by March 27, 2017.

All comments received during the public comment period may be made public, no matter how initially submitted. Comments are not private and will not be edited to remove identifying or contact information. The Department cautions commenters against including any information that they would not want publicly disclosed. The Department further requests that any party soliciting or aggregating comments from other persons direct those persons not to include any identifying or contact information, or information they would not want publicly disclosed, in their comments.

The Department will hold a public meeting on Tuesday March 7, 2017 at the Sanford Center, 1111 Event Center Drive NE., Bemidji, Minnesota from 4:30 to 7:30 p.m.

ADDRESSES: Parties may submit comments at http://www.regulations.gov by entering the “Enbridge Line 67” into the search field and following the prompts. Written comments should be addressed to: Ms. Mary D. Hassell, U.S. Department of State, 2201 C Street NW., Room 2727, Washington, DC 20520. As described above, comments are not private. All comments from agencies or organizations should indicate a contact person for the agency or organization.

FOR FURTHER INFORMATION CONTACT: Project details on the Enbridge application for a new Presidential Permit for Line 67 (including the amendment thereto), as well as the Draft SEIS and information on the Presidential Permit process, are available on the following Web site: http://www.state.gov/e/enr/applicant/applicants/.

Please refer to this Web site or contact Ms. Mary D. Hassell at the address listed in the ADDRESSES section of this notice.

SUPPLEMENTARY INFORMATION: The Department evaluates Presidential Permits under Executive Order (E.O.) 13337 and 11423, as amended. E.O. 13337 delegates to the Secretary of State the President's authority to receive applications for permits for the construction, operation or maintenance of facilities for the exportation and importation of petroleum, petroleum products, coal or other fuels (except natural gas) at the borders of the United States, and to issue or deny such Presidential Permits upon a national interest determination. To make this determination, the Department considers many factors, including but not limited to foreign policy; energy security; environmental, cultural and economic impacts; and compliance with applicable law and policy.

On March 15, 2013, the Department issued a Notice of Intent (NOI) To Prepare a Supplemental Environmental Impact Statement (SEIS) and To Conduct Scoping and To Initiate Consultation consistent With the National Environmental Policy Act (NEPA) and Section 106 of the National Historic Preservation Act (NHPA) for the Proposed Enbridge Energy, Limited Partnership, Line 67 Capacity Expansion Project (2013 NOI) in the Federal Register (78 FR 16565). The 2013 NOI informed the public that the Department would be preparing an SEIS in support of its review of a November 2012 application from Enbridge Energy, Limited Partnership (Enbridge) for a new Presidential Permit that would, if granted, authorize Enbridge to operate its existing Line 67 at the pipeline's full design capacity. In June 2014, Enbridge informed the Department that Enbridge intends to increase pumping capacity outside of the Line 67 “border segment” (the portion of Line 67 from the Canadian border to the first mainline shut-off valve in the United States, which is the segment that would be covered by a Presidential Permit), and to interconnect Line 67 with another Enbridge pipeline (Line 3) on both sides of the border segment. In light of the changes in the project description, the Department issued an amended NOI (2014 NOI) on August 18, 2014 (79 FR 48817) and conducted additional public scoping. A description of the proposed project is included in the 2014 NOI and within Chapter 2 of the Draft SEIS.

Availability of the Draft SEIS

Copies of the Draft SEIS have been distributed to state and governmental agencies, tribal governments, and other interested parties. Printed copies of the document may be obtained by visiting the libraries listed below or by contacting Mary Hassell at the above address. The Draft SEIS is available on the project Web site at http://www.state.gov/e/enr/applicant/applicants/.

A.C. Clark Library, Bemidji, MN

Bemidji Public Library, Bemidji, MN

Cass Lake Community Library, Cass Lake, MN

Cloquet Public Library, Cloquet, MN

Duluth Public Library, Duluth, MN

Grand Rapids Public Library, Grand Rapids, MN

Hallock Public Library, Hallock, MN

Northwest Regional Library, Thief River Falls, MN

Pembina School and Public Library, Pembina, ND

Superior Public Library, Superior, WI

Barton J. Putney,
Director, Office of Environmental Quality and Transboundary Issues, Department of State.

[FR Doc. 2017-02749 Filed 2-9-17; 8:45 am]

BILLING CODE 4710-09-P